DEPARTMENT OF COMMERCE

Foreign-Trade Zones Board

[Docket 52-2009]

Foreign-Trade Zone 61—San Juan, Puerto Rico; Application for Expansion

An application has been submitted to the Foreign-Trade Zones (FTZ) Board (the Board) by the Puerto Rico Trade and Export Company, grantee of FTZ 61, requesting authority to expand its zone to include additional sites in the San Juan, Puerto Rico area, in and adjacent to the San Juan Customs and Border Protection port of entry. The application was submitted pursuant to the provisions of the Foreign-Trade Zones Act, as amended (19 U.S.C. 81a-81u), and the regulations of the Board (15 CFR Part 400). It was formally filed on November 17, 2009.

FTZ 61 was approved on October 20, 1980 (Board Order No. 165, 45 FR 71408, 10/28/80) and expanded on September 28, 2007 (Board Order No. 1528, 72 FR 56723, 10/04/07). The zone project currently consists of the following sites: Site 1 (244 acres) Parcel A (192 acres)—International Trade Center Grounds, Highway 165, km. 2.4; Parcel B (23 acres)—tract of undeveloped land, intersection of State Road 22 and State Road 28; Parcel C (12 acres)—tract of developed land, at Highway 28 and Cano Avenue; Parcel D (5 acres)—Amelia Distribution Center, intersection of Highway 165 and Calle Amelia; Parcel E (5 acres)—warehouse building, within the Centro Mercantil Internacional Complex, West Street, at the International Trade Center Grounds, Guaynabo; Parcel F (7 acres)—warehouse building (expires 11/1/11) located at Road #5, Km. 4.0, Barrio Palmas, Catano; Site 2 (11 acres)—North Distribution Center, located at km. 1.1 on Highway 869, Catano; Site 3 (15 acres)—Catano Equipment and Storage Complex, intersection of Highway 165 and Las Palmas Avenue, Catano; Site 4 (2 acres)—Bayamon Logistics, Storage and Distribution Center, intersection of Calle C and Highway 28, Bayamon; Site 5 (3 acres)—Corujo Industrial Park, located at Road 866, Km. 1.7, Hato Tejas; Site 6 (4 acres)—warehouse facilities located on the north side of Highway 2, one mile east of Highway 165, Toa Baja; Site 7 (2 acres)—Baldorioty de Castro Warehouse and Distribution Center, located at Km. 10.3, Marginal de la Avenida de Baldorioty de Castro at the intersection of Mercedez Drive, Carolina; Site 8 (5 acres)—Manati chemical warehouse, intersection of Highways 686 and 670, Manati; Site 9 (7 acres)—warehouse facilities located at km. 28.6 on Highway 1, Caguas; Site 10 (14 acres)—storage complex at Km. 3.9, Marginal de J.F. Kennedy Avenue at the intersection of Blay Street, San Juan; Site 11 (32 acres)—Mayaguez Regional Distribution Center, located at 201 Algarrobo Avenue, Mayaguez; Site 12 (307 acres, 2 parcels)—Yabucoa Industrial Park, at the intersection of Highway 901 and Highway 53, Yabucoa; and, Site 13 (3 acres)—warehouse facility, located at State Road 3, Km. 77.2, Barrio Abajo, Humacao.

The applicant is requesting authority to expand Sites 1, 5 and 10 to include additional acreage and to include 3 additional sites in the San Juan area:

—Expand Site 1 which will include temporary Site 1 Parcel F (7 acres) on a permanent basis (expires 11/01/11) and to restore to Site 1 Parcel B (19 acres) which had been removed for minor boundary modifications (new overall Site 1 total acreage-263 acres);

—Expand Site 5 to include an additional eight acres (new total-11 acres) (within the 350-acre Corujo Industrial Park);

—Expand Site 10 to include an additional acre (new total-15 acres);

—Proposed Site 14 (6 acres)—Angora Industrial Park, Rd. #1, Km. 32.6, Bairoa Avenue, Caguas;

—Proposed Site 15 (9 acres)—Royal Industrial Park, Rd. #869, Km. 2.8, Barrio Palmas, Catano; and,

—Proposed Site 16 (1 acre)—Benitez commercial complex, Rd. #1, Km. 32.9, Bairoa Avenue, Caguas.

The sites will provide public warehousing and distribution services to area businesses. No specific manufacturing authority is being requested at this time. Such requests would be made to the Board on a case-by-case basis.

In accordance with the Board's regulations, Kathleen Boyce of the FTZ Staff is designated examiner to evaluate and analyze the facts and information presented in the application and case record and to report findings and recommendations to the Board.

Public comment on the application is invited from interested parties. Submissions (original and 3 copies) shall be addressed to the Board's Executive Secretary at the address listed below. The closing period for their receipt is January 25, 2010. Rebuttal comments in response to material submitted during the foregoing period may be submitted during the subsequent 15-day period (to February 8, 2010).

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Kathleen Boyce at Kathleen_Boyce@ita.doc.gov or (202) 482-1346.

Dated: November 17, 2009.
Andrew McGilvray,
Executive Secretary.

[FR Doc. E9-28267 Filed 11-24-09; 8:45 am]

BILLING CODE P